ENVIRONMENTAL PROTECTION AGENCY

[FRL-7991-1]

Notice of the Twelfth Meeting of the Mississippi River/Gulf of Mexico Watershed Nutrient Task Force

AGENCY: Environmental Protection Agency (EPA).

ACTION: Notice of meeting.

SUMMARY: This notice announces the Twelfth Meeting of the Mississippi River/Gulf of Mexico Watershed Nutrient Task Force. The purpose of this Task Force, consisting of Federal, State, and Tribal members, is to lead efforts to coordinate and support nutrient management and hypoxia-related activities in the Mississippi River and Gulf of Mexico watersheds. The major matters to be discussed at the meeting is the activities of the Sub-Basin Teams and the Reassessment of the Action Plan for Reducing, Mitigating, and Controlling Hypoxia in the Northern Gulf of Mexico. The Action Plan was developed in fulfillment of a requirement of section 604(b) of the Harmful Algal Blooms and Hypoxia Research Control Act (Pub. L. 105-383—Coast Guard Authorization Act of 1998) to submit a scientific assessment of hypoxia and a plan for reducing, mitigating, and controlling hypoxia in the Gulf of Mexico. The Action Plan was submitted as a Report to Congress on January 18, 2001, and the eleventh action item is a reassessment of the actions every five years. The public will be afforded an opportunity to provide input to the Task Force during open discussion periods.

DATES: The one day meeting will be held from 8:30 a.m.-4:30 p.m., Thursday, December 1, 2005 in Memphis, TN.

ADDRESSES: Please see the website http://yukon.tetratech-ffx.com/12TFMeeting/ for registration, specific meeting location, and hotel information. The meeting room accommodates approximately 125 people, therefore, registration is required. There is no charge for registration.

FOR FURTHER INFORMATION CONTACT: Katie Flahive, U.S. EPA, Assessment and Watershed Protection Division (AWPD), Mail Code 4503T, 1200 Pennsylvania Avenue, NW., Washington, DC 20460; Phone (202) 566-1206; E-mail: flahive.katie@epa.gov. For additional information on logistics, registration, and accommodations, contact Ansu John, Tetra Tech, Inc., 10306 Eaton Place, Suite 340, Fairfax, VA 22030; Phone: (703) 385-6000; E-mail: ansu.john@tetratech-ffx.com.

Dated: October 25, 2005.
Diane Regas,
Director, Office of Wetlands, Oceans, and Watersheds.

[FR Doc. 05-21622 Filed 10-28-05; 8:45 am]

BILLING CODE 6560-50-P